DEPARTMENT OF LABOR

Employment and Training Administration

[TA-W-71,572, TA-W-71,572A; TA-W-71,572B; TA-W-71,572C]

Amended Revised Determination on Reconsideration

TA-W-71,572, Severstal Wheeling, Inc., a Subsidiary of Severstal North America, Inc., Currently Known as RG Steel Wheeling, LLC, Martins Ferry, Ohio;

TA-W-71,572A, Severstal Wheeling, Inc., a Subsidiary of Severstal North America, Inc., Currently Known as RG Steel Wheeling, LLC, Yorkville, Ohio;

TA-W-71,572B, Severstal Wheeling, Inc., a Subsidiary of Severstal North America, Inc., Currently Known as RG Steel Wheeling, LLC, >Mingo Junction, Ohio;

TA-W-71,572C, Severstal Wheeling, Inc., a Subsidiary of Severstal North America, Inc. Currently Known as RG Steel Wheeling, LLC, Steubenville, Ohio

In accordance with Section 223 of the Trade Act of 1974, as amended (“Act”), 19 U.S.C. 2273, the Department of Labor issued a Notice of Revised Determination on Reconsideration on May 6, 2011, applicable to workers of Severstal Wheeling, Inc., a subsidiary of Severstal North America, Inc., Martins Ferry, Ohio; Severstal Wheeling, Inc., a subsidiary of Severstal North America, Inc., Yorkville, Ohio (TA-W-71,572A); Severstal Wheeling, Inc., a subsidiary of Severstal North America, Inc., Mingo Junction, Ohio (TA-W-71,572B); and Severstal Wheeling, Inc., a subsidiary of Severstal North America, Inc., Steubenville, Ohio (TA-W-71,572C). The workers produce a variety of steel coils. The Revised Determination was published in the Federal Register on May 20, 2011 (76 FR 29276-29277). The Revised Determination was amended on June 6, 2011 to include workers whose wages reported under a separate unemployment insurance (UI) tax account under the name RG Steel Wheeling, LLC. The Revised Determination was published in the Federal Register on June 15, 2011 (76 FR 35030-35031).

At the request of the State agency, the Department reviewed the certification for workers of the subject firm. New information shows that on July 12, 2007, a certification of eligibility to apply for adjustment assistance was issued for all workers of Wheeling-Pittsburgh Steel, Mingo Junction, Ohio, separated from employment on or after May 31, 2006 through July 12, 2009. The notice was published in the Federal Register on July 26, 2007 (72 FR 41087).

In order to avoid an overlay in worker group coverage, the Department is amending the June 17, 2008 impact date established for the Mingo Junction, Ohio location, TA-W-71,572B, to read July 13, 2009.

Accordingly, the Department is amending this certification to properly reflect this matter.

The amended notice applicable to TA-W-71,572, TA-W-71,572A, TA-W-71,572B, and TA-W-71,572C are hereby issued as follows:

All workers of Severstal Wheeling, Inc., a subsidiary of Severstal North America, Inc., currently known as RG Steel Wheeling, LLC, Martins Ferry, Ohio (TA-W-71,572); Severstal Wheeling, Inc., a subsidiary of Severstal North America, Inc., currently known as RG Steel Wheeling, LLC, Yorkville, Ohio (TA-W-71,572A); and Severstal Wheeling, Inc., a subsidiary of Severstal North America, Inc., currently known as RG Steel Wheeling, LLC, Steubenville, Ohio (TA-W-71,572C), who became totally or partially separated from employment on or after June 17, 2008, through May 6, 2013, and all workers in the group threatened with total or partial separation from employment on the date of certification through two years from the date of certification, are eligible to apply for adjustment assistance under Chapter 2 of Title II of the Trade Act of 1974, as amended and

All workers of Severstal Wheeling, Inc., a subsidiary of Severstal North America, Inc., currently known as RG Steel Wheeling, LLC, Severstal Wheeling, Inc., a subsidiary of Severstal North America, Inc., currently known as RG Steel Wheeling, LLC, Mingo Junction, Ohio (TA-W-71,572B), who became totally or partially separated from employment on or after July 13, 2009, through May 6, 2013, and all workers in the group threatened with total or partial separation from employment on the date of certification through two years from the date of certification, are eligible to apply for adjustment assistance under Chapter 2 of Title II of the Trade Act of 1974, as amended.

Signed at Washington, DC this 23rd day of August, 2011.
Del Min Amy Chen,
Certifying Officer, Office of Trade Adjustment Assistance.

[FR Doc. 2011-22561 Filed 9-1-11; 8:45 am]

BILLING CODE 4510-FN-P